DEPARTMENT OF LABOR

Mine Safety and Health Administration

30 CFR Part 48

Training and Retraining of Miners

CFR Correction

In Title 30 of the Code of Federal Regulations, Parts 1 to 199, revised as of July 1, 2012, on page 246, in § 48.6, paragraph (b)(10) is corrected to read as follows:

§ 48.6 Experienced miner training.

* * * * *

(b) * * *

(10) Health. The course must include instruction on the purpose of taking dust, noise, and other health measurements, where applicable; must review the health provisions of the Act; and must explain warning labels and any health control plan in effect at the mine.

* * * * *

[FR Doc. 2013-09269 Filed 4-17-13; 8:45 am]

BILLING CODE 1505-01-D